SUSQUEHANNA RIVER BASIN COMMISSION

Actions Taken at December 5, 2019, Meeting

AGENCY: Susquehanna River Basin Commission.

ACTION: Notice.

SUMMARY: As part of its regular business meeting held on December 5, 2019, in Harrisburg, Pennsylvania, the Commission approved the applications of certain water resources projects, and took additional actions, as set forth in the Supplementary Information below.

DATES: December 5, 2019.

ADDRESSES: Susquehanna River Basin Commission, 4423 N Front Street, Harrisburg, PA 17110-1788.

FOR FURTHER INFORMATION CONTACT: Jason E. Oyler, General Counsel and Secretary, telephone: (717) 238-0423, ext. 1312; fax: (717) 238-2436; email: joyler@srbc.net. Regular mail inquiries may be sent to the above address. See also Commission website at www.srbc.net.

SUPPLEMENTARY INFORMATION: In addition to the actions taken on projects identified in the summary above and the listings below, the following items were also presented or acted upon at the business meeting: (1) Informational presentation on the Chiques Creek Watershed in Lancaster County, Pa.; (2) adoption of a Regulatory Fee Schedule to become effective January 1, 2020; (3) approval of three contractual agreements; (4) a report on a delegated settlement; (5) approval of a regulatory waiver request; and (6) approval of Regulatory Program projects.

Project Applications Approved

The Commission approved the following project applications:

1. Project Sponsor and Facility: Cabot Oil & Gas Corporation (Tunkhannock Creek), Lenox Township, Susquehanna County, Pa. Application for renewal of surface water withdrawal of up to 1.500 mgd (peak day) (Docket No. 20151201).

2. Project Sponsor and Facility: Town of Cortlandville, Cortland County, NY Application for groundwater withdrawal of up to 1.300 mgd (30-day average) from Lime Hollow Well 2.

3. Project Sponsor and Facility: Town of Cortlandville, Cortland County, NY Application for groundwater withdrawal of up to 1.300 mgd (30-day average) from Lime Hollow Well 7.

4. Project Sponsor and Facility: Town of Cortlandville, Cortland County, NY Application for groundwater withdrawal of up to 1.008 mgd (30-day average) from the Terrace Road Well.

5. Project Sponsor: Graymont (PA) Inc. Project Facility: Pleasant Gap Facility, Spring Township, Centre County, Pa. Modification to increase consumptive use by an additional 0.098 mgd (30-day average), for a total consumptive use of up to 0.720 mgd (30-day average), and change limits from peak day to 30-day average (Docket No. 20050306).

6. Project Sponsor: Hazleton City Authority. Project Facility: Hazleton Division, Hazle Township, Luzerne County, Pa. Application for groundwater withdrawal of up to 0.354 mgd (30-day average) from Barnes Run Well 3.

7. Project Sponsor and Facility: Leola Sewer Authority (will be issued to Upper Leacock Township Municipal Authority), Upper Leacock Township, Lancaster County, Pa. Application for renewal of groundwater withdrawal of up to 0.263 mgd (30-day average) from Well 16 (Docket No. 19890702).

8. Project Sponsor and Facility: Pennsylvania State University, College Township, Centre County, Pa. Application for renewal of consumptive use of up to 2.622 mgd (peak day) (Docket No. 19890106).

9. Project Sponsor and Facility: Pennsylvania State University, College Township, Centre County, Pa. Application for renewal of groundwater withdrawal of up to 1.728 mgd (30-day average) from Well UN-33 (Docket No. 19890106).

10. Project Sponsor and Facility: Pennsylvania State University, College Township, Centre County, Pa. Application for renewal of groundwater withdrawal of up to 1.678 mgd (30-day average) from Well UN-34 (Docket No. 19890106).

11. Project Sponsor and Facility: Pennsylvania State University, College Township, Centre County, Pa. Application for renewal of groundwater withdrawal of up to 1.728 mgd (30-day average) from Well UN-35 (Docket No. 19890106).

12. Project Sponsor and Facility: Sugar Hollow Water Services LLC (Susquehanna River), Eaton Township, Wyoming County, Pa. Application for renewal of surface water withdrawal of up to 1.500 mgd (peak day) (Docket No. 20151204).

13. Project Sponsor and Facility: SWN Production Company, LLC (Susquehanna River), Great Bend Township, Susquehanna County, Pa. Application for renewal of surface water withdrawal of up to 2.000 mgd (peak day) (Docket No. 20151205).

Projects Approved Involving a Diversion

1. Project Sponsor and Facility: City of Aberdeen, Harford County, Md. Modifications to extend the approval term of the consumptive use, surface water withdrawal, and out-of-basin diversion approval (Docket No. 20021210) to allow additional time for evaluation of the continued use of the source for the Aberdeen Proving Ground-Aberdeen Area.

2. Project Sponsor and Facility: New York State Canal Corporation (Middle Branch Tioughnioga Creek), Towns of DeRuyter and Cazenovia, Madison County, and Town of Fabius, Onondaga County, NY Applications for surface water withdrawal of up to 4.300 mgd (peak day), consumptive use of up to 4.300 mgd (peak day), and out-of-basin diversion of up to 4.300 mgd (peak day) from Middle Branch Tioughnioga Creek.

3. Project Sponsor: Seneca Resources Company, LLC. Project Facility: Impoundment 1, receiving groundwater from various sources, Sergeant and Norwich Townships, McKean County, Pa. Application for into-basin diversion from the Ohio River Basin of up to 2.517 mgd (peak day) (Docket No. 20141216).

Commission Initiated Project Approval Modifications

1. Project Sponsor and Facility: Bucknell University, East Buffalo Township, Union County, Pa. Conforming the grandfathering amount with the forthcoming determination for a groundwater withdrawal up to 0.046 mgd (30-day average) from Well 2 and up to 0.116 mgd (30-day average) from Wells 2 and 3 (Docket No. 20021008).

2. Project Sponsor and Facility: Manada Golf Club, Inc., East Hanover Township, Dauphin County, Pa. Conforming the grandfathered amount with the forthcoming determination for a withdrawal of up to 0.071 mgd (30-day average) from the 4th Tee Well, up to 0.036 mgd (30-day average) from the 5th Tee Well, and up to 0.036 mgd (30-day average) from the Barn Well (Docket No. 20020614).

3. Project Sponsor: Pennsylvania Fish & Boat Commission. Project Facility: Pleasant Gap State Fish Hatchery, Benner Township, Centre County, Pa. Conforming the grandfathering amount with the forthcoming determination for a withdrawal of up to 5.056 mgd (30-day average) from Blue and East Springs, up to 0.930 mgd (30-day average) from Hoy and Shugert Springs, and up to 1.000 mgd (30-day average) from Logan Branch (Docket No. 20000601).

Project Applications Tabled

1. Project Sponsor and Facility: Chester Water Authority, East Nottingham Township, Chester County, Pa. Application for an out-of-basin diversion of up to 60.000 mgd (peak day).

2. Project Sponsor and Facility: New Holland Borough Authority, New Holland Borough, Lancaster County, Pa. Application for groundwater withdrawal of up to 0.860 mgd (30-day average) from Well 5.

3. Project Sponsor: Pixelle Specialty Solutions LLC. Project Facility: Spring Grove Mill (Codorus Creek—New Filter Plant Intake), Spring Grove Borough, York County, Pa. Applications for consumptive use of up to 3.650 mgd (peak day) and surface water withdrawal of up to 19.800 mgd (peak day).

4. Project Sponsor: Pixelle Specialty Solutions LLC. Project Facility: Spring Grove Mill (Codorus Creek—Old Filter Plant Intake), Spring Grove Borough, York County, Pa. Application for surface water withdrawal of up to 6.000 mgd (peak day).

5. Project Sponsor: Pixelle Specialty Solutions LLC. Project Facility: Spring Grove Mill (unnamed tributary to Codorus Creek—Kessler Pond Intake), Spring Grove Borough, York County, Pa. Application for surface water withdrawal of up to 0.750 mgd (peak day).

6. Project Sponsor and Facility: Chester Water Authority, East Nottingham Township, Chester County, Pa. Application for an out-of-basin diversion of up to 60.000 mgd (peak day) from the Susquehanna River and Octoraro Reservoir.

Authority: Pub. L. 91-575, 84 Stat. 1509 et seq., 18 CFR parts 806, 807, and 808.

Dated: December 10, 2019.
Jason E. Oyler,
General Counsel and Secretary to the Commission.

[FR Doc. 2019-26929 Filed 12-12-19; 8:45 am]

BILLING CODE 7040-01-P